DEPARTMENT OF HEALTH AND HUMAN SERVICES

Centers for Medicare & Medicaid Services

[CMS-1643-N]

Medicare Program; Solicitation of Nominations to the Advisory Panel on Hospital Outpatient Payment

AGENCY: Centers for Medicare & Medicaid Services (CMS), HHS.

ACTION: Notice.

SUMMARY: This notice solicits nominations for up to seven new members to the Advisory Panel on Hospital Outpatient Payment (HOP, the Panel). There will be vacancies on the Panel for four-year terms that begin during Calendar Year 2016.

The purpose of the Panel is to advise the Secretary of the Department of Health and Human Services (Secretary) and the Administrator of the Centers for Medicare & Medicaid Services on the clinical integrity of the Ambulatory Payment Classification groups and their associated weights, and supervision of hospital outpatient therapeutic services.

The Secretary re-chartered the Panel in 2014 for a 2-year period effective through November 6, 2016.

DATES: Submission of Nominations: We will consider nominations if they are received no later than 5 p.m. Eastern Standard Time (E.S.T) October 27, 2015.

ADDRESSES: Please submit nominations electronically to the following email address: APCPanel@cms.hhs.gov.

Web site: For additional information on the Panel and updates to the Panel's activities, we refer readers to our Web site at the following address: http://www.cms.gov/Regulations-and-Guidance/Guidance/FACA/AdvisoryPanelonAmbulatoryPaymentClassificationGroups.html.

FOR FURTHER INFORMATION CONTACT:

Persons wishing to nominate individuals to serve on the Panel or to obtain further information may contact Carol Schwartz at the following email address: APCPanel@cms.hhs.gov or call (410) 786-3985.

News Media: Representatives should contact the CMS Press Office at (202) 690-6145.

SUPPLEMENTARY INFORMATION:

I. Background

The Secretary of the Department of Health and Human Services (the Secretary) is required by section 1833(t)(9)(A) of the Social Security Act (the Act), and section 222 of the Public Health Service Act (PHS Act) to consult with an expert outside advisory panel regarding the clinical integrity of the Ambulatory Payment Classification (APC) groups and relative payment weights that are components of the Medicare Hospital Outpatient Prospective Payment System (OPPS), and the appropriate supervision level for hospital therapeutic outpatient services. The Advisory Panel on Hospital Outpatient Payment (HOP, the Panel) is governed by the provisions of the Federal Advisory Committee Act (FACA) (Pub. L. 92-463), as amended (5 U.S.C. Appendix 2), which sets forth standards for the formation and use of advisory panels. The Panel may consider data collected or developed by entities and organizations (other than the Department of Health and Human Services) as part of their deliberations.

The Charter provides that the Panel shall meet up to 3 times annually. We consider the technical advice provided by the Panel as we prepare the proposed and final rules to update the OPPS for the following Calendar Year (CY).

The Panel shall consist of a chair and up to 15 members who are full-time employees of hospitals, hospital systems, or other Medicare providers that are subject to the OPPS. For supervision deliberations, the Panel shall also include members that represent the interests of Critical Access Hospitals (CAHs), who advise the Centers for Medicare & Medicaid Services (CMS) only regarding the level of supervision for hospital outpatient therapeutic services. (For purposes of the Panel, consultants or independent contractors are not considered to be full-time employees in these organizations.)

The current Panel members are as follows:

(Note: The asterisk [*] indicates the Panel members whose terms end during CY 2016, along with the month that the term ends.)

• E.L. Hambrick, M.D., J.D., Chair, a CMS Medical Officer.

• Karen Borman, M.D., F.A.C.S.* (July 2016)

• Dawn L. Francis, M.D., M.H.S.

• Ruth Lande

• Jim Nelson, M.B.A., C.P.A., F.H.F.M.A.* (January 2016)

• Leah Osbahr, M.A., M.P.H.* (January 2016)

• Jacqueline Phillips* (February 2016)

• Johnathan Pregler, M.D.

• Traci Rabine* (January 2016)

• Michael Rabovsky, M.D.

• Wendy Resnick, F.H.F.M.A.

• Michael K. Schroyer, R.N.

• Marianna V. Spanaki-Varelas M.D., Ph.D., M.B.A.* (February 2016)

• Norman Thomson, III, M.D.

• Gale Walker* (January 2016)

• Kris Zimmer

Panel members serve on a voluntary basis, without compensation, according to an advance written agreement; however, for the meetings, CMS reimburses travel, meals, lodging, and related expenses in accordance with standard Government travel regulations. CMS has a special interest in ensuring, while taking into account the nominee pool, that the Panel is diverse in all respects of the following: Geography; rural or urban practice; race, ethnicity, sex, and disability; medical or technical specialty; and type of hospital, hospital health system, or other Medicare provider subject to the OPPS.

Based upon either self-nominations or nominations submitted by providers or interested organizations, the Secretary, or her designee, appoints new members to the Panel from among those candidates determined to have the required expertise. New appointments are made in a manner that ensures a balanced membership under the FACA guidelines. For 2016, we anticipate doing one solicitation for nominees. Our appointment schedule will assure that we have the full complement of members for each Panel meeting. Current members' terms expire at different times throughout the year; therefore, we will add new members throughout the year as terms expire.

II. Criteria for Nominees

The Panel must be fairly balanced in its membership in terms of the points of view represented and the functions to be performed. Each panel member must be employed full-time by a hospital, hospital system, or other Medicare provider subject to payment under the OPPS (except for the CAH members, since CAHs are not paid under the OPPS). All members must have technical expertise to enable them to participate fully in the Panel's work. Such expertise encompasses hospital payment systems; hospital medical care delivery systems; provider billing systems; APC groups; Current Procedural Terminology codes; and alpha-numeric Health Care Common Procedure Coding System codes; and the use of, and payment for, drugs, medical devices, and other services in the outpatient setting, as well as other forms of relevant expertise. For supervision deliberations, the Panel shall have members that represent the interests of CAHs, who advise CMS only regarding the level of supervision for hospital outpatient therapeutic services.

It is not necessary for a nominee to possess expertise in all of the areas listed, but each must have a minimum of 5 years experience and currently have full-time employment in his or her area of expertise. Generally, members of the Panel serve overlapping terms up to 4 years, based on the needs of the Panel and contingent upon the rechartering of the Panel. A member may serve after the expiration of his or her term until a successor has been sworn in.

Any interested person or organization may nominate one or more qualified individuals. Self-nominations will also be accepted. Each nomination must include the following:

• Letter of Nomination stating the reasons why the nominee should be considered.

• Curriculum vitae or resume of the nominee that includes an email address where the nominee can be contacted.

• Written and signed statement from the nominee that the nominee is willing to serve on the Panel under the conditions described in this notice and further specified in the Charter.

• The hospital or hospital system name and address, or CAH name and address, as well as all Medicare hospital and or Medicare CAH billing numbers of the facility where the nominee is employee.

III. Copies of the Charter

To obtain a copy of the Panel's Charter, we refer readers to our Web site at http://www.cms.gov/Regulations-and-Guidance/Guidance/FACA/AdvisoryPanelonAmbulatoryPaymentClassificationGroups.html.

IV. Collection of Information Requirements

This document does not impose information collection requirements, that is, reporting, recordkeeping or third-party disclosure requirements. Consequently, there is no need for review by the Office of Management and Budget under the authority of the Paperwork Reduction Act of 1995 (44 U.S.C. 3501 et seq.).

Dated: August 17, 2015.
Andrew M. Slavitt,
Acting Administrator, Centers for Medicare & Medicaid Services.

[FR Doc. 2015-21419 Filed 8-27-15; 8:45 am]

BILLING CODE 4120-01-P